EXPORT-IMPORT BANK

[Public Notice: 2022-6009]

Agency Information Collection Activities: Comment Request

AGENCY: Export-Import Bank of the U.S.

ACTION: Submission for OMB review and comments request.

SUMMARY: The Export-Import Bank of the United States (EXIM), as a part of its continuing effort to reduce paperwork and respondent burden, invites the general public and other Federal Agencies to comment on the proposed information collection, as required by the Paperwork Reduction Act of 1995. The purpose of this collection is to gather information necessary to make a determination of eligibility of a transaction for EXIM assistance under its medium-term guarantee and insurance program.

DATES: Comments should be received on or before July 22, 2022 to be assured of consideration.

ADDRESSES: Comments may be submitted electronically on WWW.REGULATIONS.GOV (EIB 95-10) or by mail to Office of Information and Regulatory Affairs, 725 17th Street NW, Washington, DC 20038, Ave. NW, Washington, DC. The application tool can be reviewed at: https://img.exim.gov/s3fs-public/pub/pending/eib-95-10-cgf-and-lt-application.pdf.

FOR FURTHER INFORMATION CONTACT: To request additional information, please Donna Schneider <donna.schneider@exim.gov>, 202-565-4223.

SUPPLEMENTARY INFORMATION: Titles and Form Number: EIB 95-10 Application for Credit Guarantee Facility and Long-term Direct Loan or Guarantee.

OMB Number: 3048-0013.

Type of Review: Update & Renewal.

Need and Use: The information collected will provide information needed to determine compliance and creditworthiness for transaction requests submitted to EXIM under its credit guarantee facility and long-term guarantee and direct loan programs.

Annual Number of Respondents: 85.

Estimated Time per Respondent: 2.5 hours.

Annual Burden Hours: 212.5 hours.

Frequency of Reporting or Use: As needed.

Government Expenses:

Reviewing Time per Year: 148.75 hours.

Average Wages per Hour: $42.50.

Average Cost per Year: $6,322 (time * wages).

Benefits and Overhead: 20%.

Total Government Cost: $7,586.

Bassam Doughman,
IT Specialist.

[FR Doc. 2022-10989 Filed 5-20-22; 8:45 am]

BILLING CODE 6690-01-P